DEPARTMENT OF COMMERCE

National Oceanic and Atmospheric Administration

RIN: 0648-XG14

Gulf of Mexico Fishery Management Council; Public Meetings

AGENCY: National Marine Fisheries Service (NMFS), National Oceanic and Atmospheric Administration (NOAA), Commerce.

ACTION: Notice of a public meeting.

SUMMARY: The Gulf of Mexico Fishery Management Council to convene its Socioeconomic Panel (SEP) via conference call.

DATES: The conference call will be held March 25, 2008, at 1 p.m. EDT.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Assane Diagne, Economist, Gulf of Mexico Fishery Management Council; telephone: (813) 348-1630.

SUPPLEMENTARY INFORMATION: The conference call will begin at 1 p.m. EDT and conclude no later than 3 p.m. EDT. Listening stations are available at the following locations:

The Gulf Council office (see ADDRESSES), and the National Marine Fisheries Service (NMFS) offices as follows:

St. Petersburg, FL

263 13th Avenue South, St. Petersburg, FL 33701, Contact: Stephen Holiman, telephone: (727) 551-5719;

Galveston, TX

4700 Ave U, Conference room - Bldg 305, Galveston, TX 77551, Contact: Ronnie O'Toole, telephone: (409) 766-3500;

Miami, FL

75 Virginia Beach Drive, Miami, FL 33149, Contact: Sophia Howard, telephone: (305) 361-4259; and

Panama City, FL

3500 Delwood Beach Road, Panama City, FL 32408, Contact: Janice Hamm, telephone: (850) 234-6541.

The SEP will hold a conference call to discuss Reef Fish Amendment 30-B. Amendment 30B contains potential management measures to define overfishing and overfished thresholds and an optimum yield (OY) target for gag; end overfishing of gag; increase the total allowable catch (TAC) of the red grouper stock to its OY level; establish recreational and commercial allocations for gag and red grouper; establish accountability measures for gag to assure compliance with ending overfishing; adjust commercial grouper quotas and recreational grouper bag limits; closed seasons; and/or size limits; reduce discards and discard mortality of groupers; establish a new reef fish marine reserve and/or extend the duration of the existing Madison-Swanson and Steamboat Lumps marine reserves; and require that federally permitted reef fish vessels comply with the more restrictive of federal or state reef fish regulations when fishing in state waters.

Although other non-emergency issues not on the agenda may come before the SEP for discussion, in accordance with the Magnuson-Stevens Fishery Conservation and Management Act (Magnsuon-Stevens Act), those issues may not be the subject of formal action during the meeting. Actions will be restricted to the issue specifically identified in the agenda and any issues arising after publication of this notice that require emergency action under Section 305(c) of the Magnuson-Stevens Act, provided the public has been notified of the SEP's intent to take action to address the emergency.

Special Accommodations

The listening stations are physically accessible to people with disabilities. Requests for sign language interpretation or other auxiliary aids should be directed to Tina Trezza at the Council (see ADDRESSES) at least 5 working days prior to the meeting.

Dated: March 5, 2008.
Tracey L. Thompson,
Acting Director, Office of Sustainable Fisheries, National Marine Fisheries Service.

[FR Doc. E8-4613 Filed 3-7-08; 8:45 am]

BILLING CODE 3510-22-S